DEPARTMENT OF AGRICULTURE

Commodity Credit Corporation

Notice of Request for a Revision of a Currently Approved Information Collection

AGENCY: Commodity Credit Corporation, USDA.

ACTION: Notice and request for comments.

SUMMARY: In accordance with the Paperwork Reduction Act of 1995, this notice announces the Commodity Credit Corporation's (CCC) intention to request a revision for a currently approved information collection in support of the CCC Export Credit Guarantee Program (GSM-102) based on current program levels and participants. CCC is not requesting a revision or extension for a currently approved information collection in support of the Intermediate Term Guarantee (GSM-103) Program or the Supplier Credit Guarantee Program, due to repeal of these programs by the Food, Conservation, and Energy Act of 2008.

DATES: Comments on this notice must be received by January 5, 2009 to be assured consideration.

Additional Information or Comments: Contact P. Mark Rowse, Director, Office of Trade Programs, Credit Program Division, Foreign Agricultural Service, U.S. Department of Agriculture, AgStop 1025, Washington, DC 20250-1025, telephone (202) 720-0624.

SUPPLEMENTARY INFORMATION: Title: CCC Export Credit Guarantee (GSM-102) Program.

OMB Number: 0551-0004.

Expiration Date of Approval: March 31, 2009.

Type of Request: Revision of a currently approved information collection.

Abstract: The primary objective of the GSM-102 program is to expand U.S. agricultural exports by making available export credit guarantees to encourage U.S. private sector financing of foreign purchases of U.S. agricultural commodities on credit terms. The CCC currently has programs operating in at least 176 countries and regions with 2,900 exporters eligible to participate. Under 7 CFR part 1493, exporters are required to submit the following: (1) Information about the exporter for program participation; (2) export sales information in connection with applying for a payment guarantee; (3) information regarding the actual export of the commodity (evidence of export report); (4) notice of default and claims for loss; and (5) other documents, if applicable, including notice of assignment of the right to receive proceeds under the export credit guarantee. In addition, each exporter and exporter's assignee (U.S. financial institution) must maintain records on all information submitted to CCC and in connection with sales made under GSM-102. The information collected is used by CCC to manage, plan, evaluate, and account for government resources. The reports and records are required to ensure the proper and judicious use of public funds.

Estimate of Burden: The public reporting burden for these collections is estimated to average 0.49 hours per response.

Respondents: Exporters of U.S. agricultural commodities, banks or other financial institutions, producer associations, export trade associations, and U.S. Government agencies.

Estimated Number of Respondents: 78 per annum.

Estimated Number of Responses per Respondent: 62.79 per annum.

Estimated Total Annual Burden of Respondents: 2,400 hours.

Copies of this information collection can be obtained from Tamoria Thompson, the Agency Information Collection Coordinator, at (202) 690-1690 or e-mail at Tamoria.Thompson@fas.usda.gov.

Requests for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology. Comments may be sent to P. Mark Rowse, Director, Office of Trade Programs, Credit Programs Division, Foreign Agricultural Service, U.S. Department of Agriculture, AgStop 1025, Washington, DC 20250-1025, or to the Desk Officer for Agriculture, Office of Information and Regulatory Affairs, Office of Management and Budget (OMB), Washington, DC 20503. Persons with disabilities who require an alternative means for communication of information (Braille, large print, audiotape, etc.) should contact USDA's Target Center at (202) 720-2600 (voice and TDD). All responses to this notice will be summarized and included in the request for OMB approval. All comments will also become a matter of public record.

Dated: November 3, 2008.
Michael W. Yost,
Administrator, Foreign Agricultural Service.

[FR Doc. E8-26505 Filed 11-5-08; 8:45 am]

BILLING CODE 3410-10-P